NUCLEAR REGULATORY COMMISSION

[Docket No. 50-334; NRC-2014-0180]

FirstEnergy Nuclear Operating Company; Beaver Valley Power Station, Unit 1

AGENCY: Nuclear Regulatory Commission.

ACTION: License amendment application; withdrawal by applicant.

SUMMARY: The U.S. Nuclear Regulatory Commission (NRC) has granted the request of FirstEnergy Nuclear Operating Company to withdraw its application dated July 30, 2013, for a proposed amendment to Renewed Facility Operating License No. DPR-66, for the Beaver Valley Power Station, Unit 1. The proposed amendment would authorize the implementation of § 50.61a of Title 10 of the Code of Federal Regulations (10 CFR), “Alternate Fracture Toughness Requirements for Protection Against Pressurized Thermal Shock Events,” in lieu of the requirements located in 10 CFR 50.61, “Fracture Toughness Requirements for Protection Against Pressurized Thermal Shock Events.”

DATES: Notice of withdrawal of license amendment application given on February 24, 2015.

ADDRESSES: Please refer to Docket ID NRC-2014-0180 when contacting the NRC about the availability of information regarding this document. You may obtain publicly-available information related to this document using any of the following methods:

• Federal Rulemaking Web site: Go to http://www.regulations.gov and search for Docket ID NRC-2014-0180. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Taylor A. Lamb, Office of Nuclear Reactor Regulation, U.S. Nuclear Regulatory Commission, Washington, DC 20555-0001; telephone: 301-415-7128, email: Taylor.Lamb@nrc.gov.

SUPPLEMENTARY INFORMATION:

The NRC has granted the request of FirstEnergy Nuclear Operating Company (the licensee) to withdraw its application dated July 30, 2013 (ADAMS Accession No. ML13212A027), for a proposed amendment to the Beaver Valley Power Station, Unit 1, located in Beaver County, Pennsylvania.

The proposed amendment would authorize the implementation of Title 10 of the Code of Federal Regulations (10 CFR) 50.61a, “Alternate Fracture Toughness Requirements for Protection Against Pressurized Thermal Shock Events,” in lieu of the requirements located in 10 CFR 50.61, “Fracture Toughness Requirements for Protection Against Pressurized Thermal Shock Events.”

The NRC published a Biweekly Notice in the Federal Register on August 5, 2014 (79 FR 45476), that gave notice that this proposed amendment was under consideration by the NRC. However, by letter dated February 5, 2015 (ADAMS Accession No. ML15036A424), the licensee requested to withdraw the proposed amendment.

Dated at Rockville, Maryland, this 18th day of February 2015.
For the Nuclear Regulatory Commission.
Taylor A. Lamb,
Project Manager, Plant Licensing Branch I-2, Division of Operating Reactor Licensing, Office of Nuclear Reactor Regulation.

[FR Doc. 2015-03758 Filed 2-23-15; 8:45 am]

BILLING CODE 7590-01-P